NUCLEAR REGULATORY COMMISSION

Notice of Availability of Draft Interim Staff Guidance Document HLWRS-ISG-01 Review Methodology for Seismically Initiated Event Sequences

AGENCY: Nuclear Regulatory Commission.

ACTION: Notice of availability.

FOR FURTHER INFORMATION, CONTACT: Jon Chen, Project Manager, Project Management Section, Division of High-Level Waste Repository Safety (HLWRS), Office of Nuclear Material Safety and Safeguards, U.S. Nuclear Regulatory Commission, Washington, DC 20005-0001. Telephone: (301) 415-5526; fax number: (301) 415-5399; e-mail: jcc2@nrc.gov.

SUPPLEMENTARY INFORMATION:

I. Introduction

The Yucca Mountain Review Plan (July 2003, NUREG-1804, Revision 2) provides guidance for U.S. Nuclear Regulatory Commission (NRC) staff to evaluate a U.S. Department of Energy (DOE) license application for a geologic repository. NRC prepares Interim Staff Guidance (ISG) to provide clarifications or refinements to the guidance provided in the Yucca Mountain Review Plan. NRC is soliciting public comments on Draft HLWRS-ISG-01, “Review Methodology for Seismically Initiated Event Sequences.” Comments received will be considered, as appropriate, in the final version or subsequent revisions to HLWRS-ISG-01.

II. Summary

The purpose of this notice is to provide the public an opportunity to review and comment on draft HLWRS-ISG-01, concerning the review methodology for seismically initiated event sequences. HLWRS-ISG-01 provides guidance to NRC staff for review of seismically initiated event sequences in the preclosure safety analysis.

III. Further Information

The documents related to this action are available electronically at NRC's Electronic Reading Room at http://www.nrc.gov/reading-rm/adams.html. From this site, you can access NRC's Agencywide Documents Access and Management System (ADAMS), which provides text and image files of NRC's public documents. The ADAMS accession numbers for the documents related to this notice are provided in the following table. If you do not have access to ADAMS or if there are problems in accessing the documents located in ADAMS, contact the NRC Public Document Room Reference staff at 1-800-397-4209, (301) 415-4737, or by e-mail at pdr@nrc.gov.

ISG | ADAMS accession number
Draft HLWRS-ISG-01, “Review Methodology for Seismically Initiated Event Sequences” | ML061170532

These documents may also be viewed electronically on the public computers located at NRC's PDR, O-1F21, One White Flint North, 11555 Rockville Pike, Rockville, MD 20852. The PDR reproduction contractor will copy documents for a fee. Comments and questions on draft HLWRS-ISG-01 should be directed to the NRC contact listed below by July 6, 2006. Comments received after this date will be considered if it is practical to do so, but assurance of consideration cannot be given to comments received after this date.

Contact: Mahendra Shah, Senior Structural Engineer, Engineering Section, Technical Review Directorate, Division of High-Level Repository Safety, Office of Nuclear Material Safety and Safeguards, U.S. Nuclear Regulatory Commission, Washington, DC 20005-0001. Comments can also be submitted by telephone, fax, or e-mail, which are as follows: telephone: (301) 415-8537; fax number: (301) 415-5399; or by (e-mail) at mjs3@nrc.gov.

Dated at Rockville, Maryland this 16th day of May 2006.
For the Nuclear Regulatory Commission.
N. King Stablein,
Chief, Project Management Section B, Division of High-Level Waste Repository Safety, Office of Nuclear Material Safety and Safeguards.

[FR Doc. E6-7782 Filed 5-19-06; 8:45 am]

BILLING CODE 7590-01-P